DEPARTMENT OF COMMERCE

National Oceanic and Atmospheric Administration

RIN 0648-XC539

Fisheries of the Gulf of Mexico; Gulf of Mexico Fishery Management Council; Public Meeting

AGENCY: National Marine Fisheries Service (NMFS), National Oceanic and Atmospheric Administration (NOAA), Commerce.

ACTION: Notice of Gulf of Mexico Fishery Management Council Spanish Mackerel and Cobia Stock Assessment Review Workshop.

SUMMARY: Independent peer review of Gulf of Mexico Spanish Mackerel and Cobia stocks will be accomplished through written reviews because delays in completing the assessments prevented their consideration at the SEDAR 28 Review Workshop. This workshop is being held by the Gulf of Mexico Fishery Management Council to consider recommendations from the written reviews and develop recommendations for the Gulf Council Scientific and Statistical Committee. See SUPPLEMENTARY INFORMATION.

DATES: The Stock Assessment Review Workshop for Gulf of Mexico Spanish Mackerel and Cobia will be held on March 25-26, 2013, from 8 a.m. to 5 p.m. on both days. The established time may be adjusted as necessary to accommodate the timely completion of discussion relevant to the assessment process. Such adjustments may result in the meeting being extended from, or completed prior to the times established by this notice.

ADDRESSES: The Review Workshop will take place in the conference room of the Gulf of Mexico Fishery Management Council's office at 2203 North Lois Avenue, Suite 1100, Tampa FL 33607. The workshop is open to members of the public. Those interested in participating should contact Ryan Rindone at SEDAR (see FOR FURTHER INFORMATION CONTACT). Please request meeting information at least 24 hours in advance.

FOR FURTHER INFORMATION CONTACT: Ryan Rindone, SEDAR Coordinator, 2203 N Lois Ave, Suite 1100, Tampa FL 33607; telephone: (813) 348-1630; email: ryan.rindone@gulfcouncil.org

SUPPLEMENTARY INFORMATION: The Gulf of Mexico, South Atlantic, and Caribbean Fishery Management Councils, in conjunction with NOAA Fisheries and the Atlantic and Gulf States Marine Fisheries Commissions, have implemented the Southeast Data, Assessment and Review (SEDAR) process for determining the status of fish stocks in the Southeast Region. SEDAR is a three-step process including: (1) Data Workshop, (2) Assessment Process including a workshop and webinars, and (3) Review Workshop. The product of the Data Workshop is a data report which compiles and evaluates potential datasets and recommends which datasets are appropriate for assessment analyses. The product of the Assessment Process is a stock assessment report which describes the fisheries, evaluates the status of the stock, estimates biological benchmarks, projects future population conditions, and recommends research and monitoring needs. The assessment is independently peer reviewed at the Review Workshop. The product of the Review Workshop is a Summary documenting Panel opinions regarding the strengths and weaknesses of the stock assessment and input data. Participants for SEDAR Workshops are appointed by the Councils having jurisdiction over the stocks assessed, NOAA Fisheries Southeast Regional Office, HMS Management Division, and NOAA Southeast Fisheries Science Center. Participants include data collectors and database managers; stock assessment scientists, biologists, and researchers; constituency representatives including fishermen, environmentalists, and NGO's; International experts; and staff of Councils, Commissions, and state and federal agencies.

SEDAR (Southeast Data, Assessment, and Review) 28 addressed assessments of Gulf of Mexico and South Atlantic Spanish mackerel and Cobia. During the stock assessment process, Assessment Workshop Panelists determined that assessments of the Gulf stocks of cobia and Spanish mackerel were not complete by the deadline for consideration at the SEDAR 28 Review Workshop. Therefore, the SEDAR Steering Committee modified the approach for these assessments and requested that the Center for Independent Experts (CIE) provide formal written reviews of these stocks conducted by 3 independent experts. The findings of the 3 independent reviewers will be considered by a panel of Gulf Council SSC representatives, which will develop recommendations for consideration by the Gulf Council SSC. The Desk reviews for these species will be provided to the Gulf Council SSC Review Panel approximately one month prior to the workshop.

Gulf of Mexico Fishery Management Council Review Workshop for Spanish Mackerel and Cobia

Panelists will review modeling methodologies and results for the Gulf of Mexico Spanish Mackerel and Cobia fisheries.

Special Accommodations

This meeting is accessible to people with disabilities. Requests for auxiliary aids should be directed to the Council office (see FOR FURTHER INFORMATION CONTACT) at least 10 business days prior to the meeting.

Dated: March 5, 2013.
Tracey L. Thompson,
Acting Deputy Director, Office of Sustainable Fisheries, National Marine Fisheries Service.

[FR Doc. 2013-05426 Filed 3-7-13; 8:45 am]

BILLING CODE 3510-22-P